ENVIRONMENTAL PROTECTION AGENCY

[FRL-6903-6]

Investigator-Initiated Grants: Request for Applications

AGENCY: Environmental Protection Agency.

ACTION: Notice of request for applications.

SUMMARY: This notice provides information on the availability of fiscal year 2001 investigator-initiated grants program announcements, in which the areas of research interest, eligibility and submission requirements, evaluation criteria, and implementation schedules are set forth. Grants will be competitively awarded following peer review.

DATES: Receipt dates vary depending on the specific research areas within the solicitations and are listed below.

FOR FURTHER INFORMATION CONTACT: U.S. Environmental Protection Agency, National Center for Environmental Research (8703R), 1200 Pennsylvania Avenue, NW., Washington DC 20460, telephone (800) 490-9194. The complete announcements can be accessed on the Internet from the EPA home page: http://www.epa.gov/ncerqa under “announcements.”

SUPPLEMENTARY INFORMATION: In its Requests for Applications (RFA) the U.S. Environmental Protection Agency (EPA) invites research grant applications in the following areas of special interest to its mission: (1) Environmental Monitoring for Public Access and Community Tracking (EMPACT); (2) Children's Vulnerability to Toxic Substances in the Environment; (3) Research Program on Statistical Survey Design and Analysis for Aquatic Resources (joint with NASA); (4) Aggregate Exposure Assessment for Pesticides: Longitudinal Case Studies; (5) Ecological Indicators for Gulf of Mexico Estuaries; and (6) Environmental Statistics Center. Applications must be received as follows: February 21, 2001, for topic (1); February 28, 2001, for topic (2); March 1, 2001, for topic (3); March 7, 2001, for topic (4); March 8, 2001, for topic (5); and March 21, 2001, for topic (6).

The RFAs provide relevant background information, summarize EPA's interest in the topic areas, and describe the application and review process.

Contact persons for the EMPACT RFA are Barbara Karn (karn.barbara@epa.gov), telephone 202-564-6820, and Charlotte Cottrill (cottrill.charlotte@epa.gov), telephone 202-564-6771. Contact person for the Children's Vulnerability RFA, the Aggregate Exposure Assessment for Pesticides RFA, and the Environmental Statistics Center RFA is Chris Saint (saint.chris@epa.gov), telephone 202-564-6909. Contact persons for the Ecological Indicators for Gulf of Mexico Estuaries RFA are Barbara Levinson (levinson.barbara@epa.gov), telephone 202-564-6911, and Eric Lindstrom (elindstr@hq.nasa.gov), telephone 202-358-4540. Contact person for the Statistical Survey Design and Analysis RFA is Barbara Levinson (levinson.barbara@epa.gov), telephone 202-564-6911.

Dated: November 1, 2000.
Approved for publication
Norine E. Noonan,
Assistant Administrator for Research and Development.

[FR Doc. 00-29505 Filed 11-16-00; 8:45 am]

BILLING CODE 6560-50-U